ENVIRONMENTAL PROTECTION AGENCY

[FRL-6566-8]

Agency Information Collection Activities: Continuing Collection; Comment Request; Performance Evaluation Studies on Water and Wastewater Laboratories

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB):

Performance Evaluation Studies on Water and Wastewater Laboratories, EPA ICR #234.07, OMB Control #2080-0021, current expiration date is 9/30/2000. Before submitting the ICR to OMB for review and approval, EPA is soliciting comments on specific aspects of the proposed information collection as described below.

DATES: Comments must be submitted on or before May 30, 2000.

ADDRESSES: National Exposure Research Laboratory, 26 W. Martin L. King Drive, Room 525, Cincinnati, OH 45268.

FOR FURTHER INFORMATION CONTACT: Ray Wesselman, (513) 569-7194, FAX to (513) 569-7115 or Email to WESSELMAN.RAY@EPA.GOV

SUPPLEMENTARY INFORMATION: Affected entities: Entities potentially affected by this action are laboratories which produce results of official/required drinking water or wastewater analyses.

Title: Performance Evaluation Studies on Water and Wastewater Laboratories (OMB Control No. 2080-0021; EPA ICR NO. 234.07) currently expiring 9/30/2000.

Abstract: The EPA receives analytical results on drinking waters and wastewaters from a variety of laboratories and must rely on these data as a primary basis for many of its regulatory decisions. As a consequence, it has become desirable to have an objective demonstration that the contributing laboratories are capable of producing valid data. The subject Performance Evaluation Studies are designed to fulfill this need to document and improve the quality of analytical data for certain critical analyses within drinking water, major point-source discharge and ambient water quality samples. Participation in Water Pollution (WP) studies that relate to wastewater analyses, and Water Supply (WS) studies that relate to drinking water analyses, is only mandated by the EPA for those laboratories that receive federal funds to do such analyses; however successful performance in these studies is often required by states that certify laboratories for drinking water and wastewater analyses. Participation in the Discharge Monitoring Report—Quality Assurance (DMR-QA) studies is mandatory for those designated wastewater dischargers who are doing self-monitoring analyses required under a National Pollutant Discharge Elimina-tion System (NPDES) permit.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The annual public reporting and record-keeping burden for this collection of information is estimated to total 241,619 hours and $9,853,259. The total number of annual responses is estimated to be 23,430, which leads to an estimated average of 10.3 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 20, 2000.
Jewel Morris,
Acting Director, National Exposure Research Laboratory, Office of Research and Development.

[FR Doc. 00-7737 Filed 3-28-00; 8:45 am]

BILLING CODE 6560-50-P